DEPARTMENT OF ENERGY

Federal Energy Regulatory Commission

[Docket Nos. ER03-262-000, -001, 002, 003, and -004; ER03-263-000 and -001]

American Electric Power Service Corp., Dayton Power and Light Company, Virginia Electric and Power Company (New PJM Companies) and PJM Interconnection, LLC, Commonwealth Edison Company; Notice Placing Transcript Into the Record

May 23, 2003.

At the Commission's public meeting of April 30, 2003, the Agenda Item A-3 and at the Commission's public meeting of May 14, 2003, the Agenda Item A-3 included panel presentations and discussions that relate to matters being considered in the dockets listed above. Consequently, the Commission is placing the relevant portions of the transcript of this public meeting in the, record and is providing an opportunity for parties in the dockets listed above to file comments on the presentations and discussions that pertain to issues pending in these dockets.

Any party in these dockets desiring to file comments should file comments in accordance with Rules 211 and 214 of the Commission's Rules of Practice and Procedure (18 CFR 385.211 and 385.214). All such comments should be filed by the comment date below, and must be served on all parties designated on the official service list for this proceeding. Comments may be filed electronically via the eFiling link on the Commission's Web site at http://www.ferc.gov. The Commission strongly encourages electronic filings. Commenters unable to file comments electronically must send an original and 14 copies of their comments to: Federal Energy Regulatory Commission, Office of the Secretary, 888 First Street NE., Washington, DC 20426.

Comment Date: June 2, 2003.

Magalie R. Salas,
Secretary.

[FR Doc. 03-13617 Filed 5-30-03; 8:45 am]

BILLING CODE 6717-01-P